INTERNATIONAL TRADE COMMISSION

[Investigations Nos. 731-TA-671-673 (Review)]

Silicomanganese From Brazil, China, and Ukraine

Determinations

On the basis of the record ¹ developed in the subject five-year reviews, the United States International Trade Commission determines,² pursuant to section 751(c) of the Tariff Act of 1930 (19 U.S.C. 1675(c)) (the Act), that revocation of the antidumping duty orders on silicomanganese from Brazil and China and termination of the suspended investigation on silicomanganese from Ukraine would be likely to lead to continuation or recurrence of material injury to an industry in the United States within a reasonably foreseeable time.

¹ The record is defined in sec. 207.2(f) of the Commission's Rules of Practice and Procedure (19 CFR 207.2(f)).

² Neither former Commissioner Thelma J. Askey nor Commissioner Dennis M. Devaney participated.

Background

The Commission instituted these reviews on November 2, 1999 (64 FR 59209), and determined on February 3, 2000, that it would conduct full reviews (64 FR 7891, February 16, 2000). Notice of the scheduling of the Commission's reviews and of a public hearing to be held in connection therewith was given by posting copies of the notice in the Office of the Secretary, U.S. International Trade Commission, Washington, DC, and by publishing the notice in the Federal Register on August 14, 2000 (64 F.R. 49595). The hearing was held in Washington, DC, on November 14, 2000, and all persons who requested the opportunity were permitted to appear in person or by counsel.

The Commission transmitted its determinations in these reviews to the Secretary of Commerce on January 25, 2001. The views of the Commission are contained in USITC Publication 3386 (January 2001), entitled Silicomanganese from Brazil, China, and Ukraine: Investigations Nos. 731-TA-671-673 (Review).

Issued: January 31, 2001.
By order of the Commission.
Donna R. Koehnke,
Secretary.

[FR Doc. 01-2966 Filed 2-2-01; 8:45 am]

BILLING CODE 7020-02-P